DEPARTMENT OF COMMERCE

National Oceanic and Atmospheric Administration

RIN 0648-XC261

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 111th Scientific and Statistical Committee (SSC), Executive and Budget Standing Committee, and 155th Council to take actions on fishery management issues in the Western Pacific Region.

DATES: The meetings will be held from Wednesday, October 24th through Thursday, November 1, 2012. For specific dates, times and agendas, see SUPPLEMENTARY INFORMATION.

ADDRESSES: The 111th SSC and Executive and Budget Standing Committee meetings will be held at the Council office, 1164 Bishop Street, Honolulu, HI 96813; telephone: (808) 522-8220. The 155th Council meeting will be held at the Laniakea YWCA-Fuller Hall, 1040 Richards Street, Honolulu, HI 96813; telephone: (808) 538-7061. The Fishers Forum will be held at the Harbor View Center, 1129 North Nimitz Hwy (Pier 38), Honolulu, HI 96817; telephone: (808) 983-1200.

FOR FURTHER INFORMATION CONTACT: Kitty M. Simonds, Executive Director; telephone: (808) 522-8220.

SUPPLEMENTARY INFORMATION: The SSC will meet on October 24-26, 2012, between 8:30 a.m. and 5 p.m.; the Council's Executive and Budget Standing Committee will meet on October 29, 2012, between 10 a.m. and 12 noon; the 155th Council will meet on October 29-November 1, 2012. The 155th Council meeting will be held between 2 p.m. and 5 p.m. on October 29, 2012, between 8:30 a.m. and 5 p.m. on October 30, 2012, between 8:30 a.m. and 5:30 p.m. on October 31, 2012, and between 8:30 a.m. and 12 noon on November 1, 2012. A Fishers Forum will be held in association with the 155th Council Meeting between 6 p.m. and 9 p.m. on October 30, 2012. All meetings will be held in Honolulu, HI..

In addition to the agenda items listed here, the SSC and Council will hear recommendations from Council advisory groups. Public comment periods will be provided throughout the agendas. The order in which agenda items are addressed may change. The meetings will run as late as necessary to complete scheduled business.

Schedule and Agenda for 111th SSC Meeting

8:30 a.m.-5 p.m., Wednesday, October 24, 2012

1. Introductions.

2. Approval of Draft Agenda and Assignment of Rapporteurs.

3. Status of the 110th SSC Meeting Recommendations.

4. Report from the Pacific Islands Fisheries Science Center Director.

5. Program Planning.

A. NMFS Science Plan & Prioritization Exercise.

B. Public Comment.

C. SSC Discussion and Recommendations.

6. Insular Fisheries.

A. Action Items.

1. Options for Acceptable Biological Catch.

a. American Samoa, Guam, Commonwealth of the Northern Mariana Islands (CNMI).

i. Bottomfish Management Unit Species (P-star Analysis).

ii. Crustaceans.

iii. Precious Corals.

b. Hawaii.

i. Non Deep 7 Bottomfish.

ii. Crustaceans.

iii. Precious Corals.

2. Alternatives for the Moratorium on Gold Coral Fishery.

B. Bottomfish Fishery.

1. Cooperative Research Bottomfish Tagging Projects in Hawaii.

2. Preliminary Results of Acoustic Tagging of Bottomfish.

C. Public Comment.

D. SSC Discussion and Recommendations.

8:30 a.m.-5 p.m., Thursday, October 25, 2012

7. Pelagic Fisheries.

A. Status of Opah Caught by the Hawaii-based Pelagic Longline Fishery.

B. International Seafood Sustainability Foundation (ISSF) Research.

C. Tracking the Changes of Economic Performance Indicators for the Main Commercial Fisheries in the Western Pacific Areas.

D. Levels Of Observer Coverage In The Shallow Set Swordfish Fishery.

E. American Samoa and Hawaii Longline Quarterly Reports.

F. International Fisheries Meetings.

1. Eighth Meeting of Western and Central Pacific Fisheries Commission (WCPFC) Scientific Committee (SC 8).

G. Public Comment.

H. SSC Discussion and Recommendations.

8. Protected Species.

A. Update on Endangered Species Act (ESA) and Marine Mammal Protection Act (MMPA) Actions.

1. 90-day Finding on the Petition to Delist the Hawaiian Green Turtle.

B. Draft 2012 Marine Mammal Stock Assessment Reports and New Abundance Estimates for False Killer Whales.

C. Public Comment.

D. SSC Discussion and Recommendations.

8:30 a.m.-5 p.m., Friday, October 26, 2012

9. Other Business.

A. 112th SSC Meeting.

10. Summary of SSC Recommendations to the Council.

10 a.m.-12 Noon, Monday, October 29, 2012

Executive and Budget Standing Committee Meeting.

Schedule and Agenda for 155th Council Meeting

2 p.m.-5 p.m. Monday, October 29, 2012

1. Welcome and Introductions.

2. Approval of the 155th Agenda.

3. Approval of the 154th Meeting Minutes.

4. Executive Director's Report.

5. Agency Reports.

A. National Marine Fisheries Service.

1. Pacific Islands Regional Office.

2. Pacific Islands Fisheries Science Center (PIFSC).

B. NOAA Office of General Counsel (OCG), Pacific Islands Report.

C. NOAA National Ocean Service.

D. U.S. Fish and Wildlife Service.

E. Enforcement.

1. U.S. Coast Guard2. NMFS Office for Law Enforcement.

3. NOAA General Counsel for Enforcement and Litigation.

F. Public Comment.

G. Council Discussion and Action.

8:30 a.m.-5 p.m., Tuesday, October 30, 2012

6. Program Planning and Research.

A. Recommendations on Moratorium for Gold Coral (Action Item).

B. PIFSC Science Plan and Prioritization.

C. Pacific Island Recreational (Non-Commercial) Fishing Summit.

D. Education and Outreach.

1. Report on First Stewarts Meeting.

a. Video Flyover.

2. Third Managing Our Nations Fisheries Conference (MONF3).

3. Other Activities.

E. SSC Recommendations.

F. Public Hearing.

G. Council Discussion and Action.

7. Protected Species.

A. Update on ESA and MMPA Actions.

1. General Update on ESA and MMPA Actions.

2. Honu (Hawaiian Green Sea Turtle) Petition 90-Day Finding.

B. Main Hawaiian Islands Monk Seal Management Plan.

C. Draft 2012 Marine Mammal Stock Assessment Reports and New Abundance Estimates for False Killer Whales.

D. SSC Recommendations.

E. Public Comment.

F. Council Discussion and Action.

8. American Samoa Archipelago.

A. Motu Lipoti.

B. Fono Report.

C. Enforcement Issues.

D. Community Activities and Issues.

1. Update on Community Fisheries Development.

E. Annual Catch Limits (Action Item).

1. Bottomfish Management Unit Species (P-star Analysis).

2. Crustaceans (Spiny Lobster and Slipper Lobster).

3. Precious Corals.

F. Education and Outreach Initiatives.

G. SSC Recommendations.

H. Public Hearing.

I. Council Discussion and Action.

9. Marianas Archipelago.

A. Island Reports.

1. Arongo Flaeey.

2. Isla Informe.

B. Legislative Report.

1. CNMI.

2. Guam.

C. Enforcement Issues.

1. CNMI.

2. Guam.

D. Status of Guam Indigenous Fishing Rights PL 29-127.

E. Annual Catch Limits (Action Item).

1. Bottomfish Management Unit Species (P-star Analysis).

2. Crustaceans (Spiny Lobster and Slipper Lobster).

3. Precious Corals.

F. Community Activities and Issues.

G. Education and Outreach Initiatives.

H. SSC Recommendations.

I. Public Hearing.

J. Council Discussion and Action.

6 p.m.-9 p.m., Tuesday October 30, 2012

Fishers Forum: Tuna, Tuna, Tuna

8:30 a.m.-5:30 p.m., Wednesday, October 31, 2012

10. Pelagic & International Fisheries.

A. American Samoa and Hawaii Longline Quarterly Reports.

B. International Fisheries Meetings.

1. Western Central Pacific Fishery Commission (WCPFC) Science Committee.

2. WCPFC Northern Committee.

3. WCPFC Technical and Compliance Committee (TCC).

4. North Pacific Regional Fishery Management Organization (NP RFMO).

5. WCPFC Permanent Advisory Committee.

C. SSC Discussion and Recommendations.

D. Public Comment.

E. Council Discussion and Action.

11. Hawaii Archipelago and Pacific Remote Island Areas.

A. Moku Pepa.

B. Department of Land and Natural Resources (DLNR) Admin Report/Update.

C. Enforcement.

D. Annual Catch Limits (ACLs) (Action Item).

1. Non Deep 7 Bottomfish.

2. Crustaceans (Spiny Lobster, Slipper Lobster and Kona Crab).

3. Precious Corals.

E. Bottomfish Fishery.

1. Cooperative Research Bottomfish Tagging Projects in Hawaii.

2. Preliminary Results on Acoustic Tagging of Bottomfish.

F. Update on Hawaiian Island Humpback Whale Sanctuary Review.

G. Community Projects, Activities and Issues.

1. Status of Aha Moku Legislation.

2. Report on Aha Moku Projects.

H. Education and Outreach Activities.

1. Hawaii Summer High School Course.

2. Community Meetings on ACLs and MMPA.

3. Other Hawaii Outreach Activities.

I. SSC Recommendations.

J. Public Hearing.

K. Council Discussion and Action.

12. Public Comment on Non-Agenda Items.

8:30 a.m.-12 Noon Thursday, November 1, 2012

13. Administrative Matters.

A. Council Member Ethics and Rules of Conduct Training.

B. Financial Reports.

C. Administrative Reports.

D. Freedom of Information Act (FOIAs) Requests.

E. Council Family Changes.

1. SSC.

F. Meetings and Workshops.

G. Approval of Standard Operating Practices and Procedures (SOPP).

H. Department of Commerce/Office of Inspector General Review of the Fishery Management Rule Making Process.

I. Other Business.

J. Standing Committee Recommendations.

K. Public Comment.

L. Council Discussion and Action.

14. Election of Officers.

15. Other Business.

Non-emergency issues not contained in this agenda may come before the Council for discussion and formal Council action during its 155th meeting. However, Council action on regulatory issues will be restricted to those issues specifically listed in this document and any regulatory issue arising after publication of this document that requires emergency action under section 305(c) of the Magnuson-Stevens Act, provided the public has been notified of the Council's intent to take action to address the emergency.

Special Accommodations.

These meetings are physically accessible to people with disabilities. Requests for sign language interpretation or other auxiliary aids should be directed to Kitty M. Simonds, (808) 522-8220 (voice) or (808) 522-8226 (fax), at least 5 days prior to the meeting date.

Authority: 1801 et seq.

Dated: September 25, 2012.
Tracey L. Thompson,
Acting Deputy Director, Office of Sustainable Fisheries, National Marine Fisheries Service.

[FR Doc. 2012-23957 Filed 9-28-12; 8:45 am]

BILLING CODE 3510-22-P